DEPARTMENT OF THE TREASURY

Customs Service

Application for Recordation of Trade Name: “Red Bull North America, Inc.”

ACTION: Notice of application for recordation of trade name.

SUMMARY: Application has been filed pursuant to section 133.12, Customs Regulations (19 CFR 133.12), for the recordation under section 42 of the Act of July 5, 1946, as amended (15 U.S.C. 1124), of the trade name “RED BULL GMBH”. The trade name is owned by Red GmbH, an Austrian corporation incorporated in the State of Salzburg, Brunn 115, A-5330 Fuschl am See, Oesterreich, Austria.

The application states that the trade name is used on a product called Red Bull Energy Drink and Point of Sale and other promotional materials for Red Bull Energy Drink.

The merchandise is manufactured in the United States. Before final action is taken on the application, consideration will be given to any relevant data, views, or arguments submitted in writing by any person in opposition to the recordation of this trade name. Notice of the action taken on the application for recordation of this trade name will be published in the Federal Register.

DATES: Comments must be received on or before August 13, 2001.

ADDRESSES: Written comments should be addressed to U.S. Customs Service, Attention: Office of Regulations and Rulings, Intellectual Property Rights Branch, 1300 Pennsylvania Avenue, NW., Ronald Reagan Building, Room 3.4A, Washington, DC.

FOR FURTHER INFORMATION CONTACT: Gwendolyn Savoy, Intellectual Property Rights Branch, 1300 Pennsylvania Avenue, NW., Washington, DC 20229 (202) 927-2330.

Dated: June 8, 2001.
Joanne Roman Stump,
Chief, Intellectual Property Rights Branch.

[FR Doc. 01-14987 Filed 6-13-01; 8:45 am]

BILLING CODE 4820-02-P